DEPARTMENT OF THE INTERIOR

National Park Service

National Register of Historic Places; Notification of Pending Nominations and Related Actions

Nominations for the following properties being considered for listing or related actions in the National Register were received by the National Park Service before August 1, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by August 31, 2009.

J. Paul Loether,
Chief, National Register of Historic Places/National Historic Landmarks Program.

ALABAMA

Covington County

J.W. Shreve Addition Historic District, 115-300 6th Ave., 302-425 College St., 403-505 E. Three Notch St., Andalusia, 09000692.

Mobile County

Garrison, Charles Denby, Sr., House, Co. Rd. 55, approx. 1 mi. NW. of jct. AL 158, Prichard, 09000693.

ARIZONA

Maricopa County

Town and Country Scottsdale Residential Historic District, Bounded by 72nd Place on the W., 74th St. on the E., Oak St. on the N., and Monte Vista on the S., Scottsdale, 09000694.

CONNECTICUT

New Haven County

Hooker, Elizabeth R., House, 123 Edgehill Rd., New Haven, 09000695.

Windham County

Quinebaug River Prehistoric Archeological District, Between Rt. 169 and the Quinebaug River, Canterbury, 09000696.

MASSACHUSETTS

Norfolk County

Canton Corner Historic District, Roughly Washington St. from Pecunit St. to SW. of Dedham St., and Pleasant St. from Washington St. to Reservoir Rd., Canton, 09000697.

Plymouth County

Hatch Homestead and Mill Historic District, 385 Union St., Marshfield, 09000698.

NEW YORK

Jefferson County

Hubbard, Hiram, House, 34237 NY 126, Champion, 09000699.

Nassau County

Manhasset Monthly Meeting of the Society of Friends, 1421 Northern Boulevard, Manhasset, 09000700.

Onondaga County

New York Central Railroad Passenger and Freight Station, 815 Erie Blvd. E. and 400 Burnet Ave., Syracuse, 09000701.

NORTH CAROLINA

Harnett County

Dunn Commercial Historic District, Roughly Bounded by Harnett St., Cumberland St., Clinton Ave. & Fayetteville Ave., Dunn, 09000702.

Rowan County

Griffith-Sowers House, 5050 Statesville Boulevard, Salisbury, 09000703.

Sherrill, John Carlyle and Anita, House, 14175 NC 801, Mount Ulla, 09000704.

OREGON

Clackamas County

Upper Sandy Guard Station Cabin, 4.5 mi. E. of jct. FS Rds. 18 and 1825, Mt. Hood National Forest, Government Camp, 09000705.

Multnomah County

Hotel Alma, (Downtown Portland, Oregon MPS) 1201-1217 SW Stark St., Portland, 09000706.

Memorial Coliseum, 1401 N. Wheeler Ave./300 N. Winning St., Portland, 09000707.

RHODE ISLAND

Newport County

Stonybrook Estate Historic District, 501-521 Indian Ave. and 75 Vaucluse Ave., Middletown, 09000708.

[FR Doc. E9-19534 Filed 8-13-09; 8:45 am]

BILLING CODE P